Memorandum of January 15, 2019

Delegation of Functions and Authorities Under the Hizballah International Financing Prevention Act of 2015, as Amended, and the Hizballah International Financing Prevention Amendments Act of 2018

Memorandum for the Secretary of State[,] the Secretary of the Treasury[, and] the Director of National Intelligence

By the authority vested in me as President by the Constitution and the laws of the United States of America, including section 301 of title 3, United States Code, I hereby:

(a) delegate to the Secretary of State the functions and authorities vested in the President by sections 101(b)(2), 101(c), 102(b), 103(b-c), and 201(c) of the Hizballah International Financing Prevention Act of 2015 (Public Law 114-102) (HIFPA), as amended by the Hizballah International Financing Prevention Amendments Act of 2018 (Public Law 115-272) (HIFPAA);

(b) delegate to the Secretary of the Treasury the functions and authorities vested in the President by sections 101(a), 101(b)(1), 102(a), 102(c), 103(a), 201(a-b), 204(b), and 302 of HIFPA, as amended by HIFPAA, as well as section 301 of HIFPAA; and

(c) delegate to the Director of National Intelligence the functions and authorities vested in the President by sections 202 and 204(a, c-d) of HIFPA, as amended by HIFPAA.

The functions and authorities delegated by this memorandum shall be exercised in coordination with departments and agencies through the National Security Presidential Memorandum-4 process.

This memorandum rescinds and replaces any prior delegations of authority to the Secretary of the Treasury, the Secretary of State, and the Director of National Intelligence under the HIFPA. Any reference in this memorandum to HIFPA or HIFPAA shall be deemed to be a reference to any future Act that is the same or substantially the same as such provision.

The Secretary of State is authorized and directed to publish this memorandum in the Federal Register.

THE WHITE HOUSE,

Washington, January 15, 2019

[FR Doc. 2019-02467

Filed 2-12-19; 11:15 am]

Billing code 4710-10-P